DEPARTMENT OF COMMERCE

National Oceanic and Atmospheric Administration

Availability of Final Evaluation Findings of National Estuarine Research Reserves

AGENCY: Office for Coastal Management, National Ocean Service, National Oceanic and Atmospheric Administration (NOAA), Department of Commerce.

ACTION: Notice of availability of evaluation findings.

SUMMARY: Notice is hereby given of the availability of final evaluation findings for seven national estuarine research reserves, Ashepoo-Combahee-Edisto (ACE) Basin, Chesapeake Bay Virginia, Guana Tolomato Matanzas (GTM), San Francisco Bay, South Slough, Tijuana River, and Weeks Bay, under Section 315 of the Coastal Zone Management Act (CZMA).

ADDRESSES: Copies of these final evaluation findings may be found at https://coast.noaa.gov/czm/evaluations/evaluation_findings/index.html or by submitting a written request to Michael Migliori at Michael.Migliori@noaa.gov.

FOR FURTHER INFORMATION CONTACT: Michael Migliori, Lead Evaluator, NOAA Office for Coastal Management, by phone at (443) 332-8936 or email at Michael.Migliori@noaa.gov.

SUPPLEMENTARY INFORMATION: The NOAA Office for Coastal Management has completed the national estuarine research reserve evaluations for ACE Basin, Chesapeake Bay Virginia, GTM, San Francisco Bay, South Slough, Tijuana River, and Weeks Bay. The reserves were found to be adhering to the terms of the reserves' financial assistance awards and to the programmatic requirements of the CZMA, including the requirements of Section 315(f), and its implementing regulations. NOAA published in the Federal Register notices for public meetings and opportunities to submit public comments on the evaluation of these national estuarine research reserves. See 86 FR 23349 (May 3, 2021) (ACE Basin), 86 FR 52131 (September 20, 2021) (Chesapeake Bay Virginia), 87 FR 66162 (November 2, 2022) (GTM), 86 FR 33992 (June 28, 2021) (San Francisco Bay), 87 FR 11417 (March 1, 2022) (South Slough), 87 FR 36308 (June 16, 2022) (Tijuana River), and 87 FR 36309 (June 16, 2022) (Weeks Bay). NOAA addressed the public comments it received in the final evaluation findings.

Authority: 16 U.S.C. 1458 and 1461(f); 15 CFR 921.40 and 923.133(b)(7).

Keelin Kuipers,
Deputy Director, Office for Coastal Management, National Ocean Service, National Oceanic and Atmospheric Administration.

[FR Doc. 2023-05207 Filed 3-13-23; 8:45 am]

BILLING CODE 3510-JE-P